U.S.-CHINA ECONOMIC AND SECURITY REVIEW COMMISSION

Notice of Open Meeting To Finalize Annual Report; Advisory Committee

ACTION: Notice of open meeting to prepare Annual Report—October 23-27, 2006, Washington, DC.

SUMMARY: Notice is hereby given of a meeting of the U.S.-China Economic and Security Review Commission.

The Commission is mandated by Congress to investigate, assess, evaluate and report to Congress annually on the U.S.-China economic and security relationship. The mandate specifically charges the Commission to prepare an annual report to the Congress “regarding the national security implications and impact of the bilateral trade and economic relationship between the United States and the People's Republic of China * * * [that] shall include a full analysis, along with conclusions and recommendations for legislative and administrative actions * * * ”

Purpose of Meeting: Pursuant to this mandate, the Commission will meet in Washington, DC October 23-27, 2006, to conduct a final review of the 2006 Annual Report to Congress, make final modifications, and formally approve the Report for printing.

Topics to be Discussed: The Commissioners will be considering Report sections addressing the following topics:

• China's Regional Activities.

• China's Energy Activities.

• China's Enforcement of Intellectual Property Rights and Its Production of Counterfeit Goods.

• China's Financial System and Its Effect on the United States.

• China's Proliferation To and Relationships With North Korea and Iran.

• China's Media Control Activities.

• China's Internal Challenges and Their Impact on China's Actions Affecting Other Nations Including the United States.

• China's Military Modernization.

• The Effect of U.S. and Multilateral Export Controls on China's Military Modernization.

• The Military Balance Across the Taiwan Strait.

• China's WTO Compliance, Industrial Expansion, and Industrial Subsidies and their Effects on the United States.

• China's Impact on the U.S. Auto and Auto Parts Industries.

Date and Time: Monday through Friday, October 23-27, 2006, 9:30 a.m. to 4:30 p.m.

Place of Meeting: On Monday and Tuesday, October 23-24, the meetings will occur in Conference Room 333 of the Hall of the States, 444 North Capitol Street, NW., Washington, DC 20001. On Wednesday, Thursday and Friday, October 25-27, the meetings will occur in Conference Room 385 of the same building. Public seating is limited, and will be available on a “first-come, first-served” basis. Advance reservations are not required.

Accessibility Statement:

• The entirety of this Commission meeting will be open to the public.

• Any member of the public is permitted to file a written statement with the Commission. Such statements may be left with the Commission's Executive Director during the meeting, or mailed or delivered to him at the Commission's office address: 444 North Capitol Street, Suite 602, Washington, DC 20001.

• The Commission's procedures for conducting its Annual Report preparation meetings do not provide for members of the public to speak during these meetings.

• The drafts prepared for Commissioners' use and consideration during the meeting are available for public inspection in the Commission's offices (see address above) during its normal office hours of 9 a.m. to 5:30 p.m., Monday through Friday. Any member of the public may request copies of any of these materials, which shall be provided at the Commission's actual cost for photocopying—10 cents per page—with payment to be made in cash in advance.

• During the meeting, at various points the Commission may take breaks from work on its Annual Report to deal with various administrative matters, such as budgetary, scheduling, and personnel matters. Those matters are not subject to the open meeting requirements of the Federal Advisory Committee Act and at those times, all members of the public will be asked to depart the room.

• The circumstances under which the Commission is permitted to use appropriated funds to pay for food or beverages are limited, and this meeting does not qualify. Therefore, Commissioners have paid out of their own pockets for coffee and other refreshments for their consumption during the meeting, and for lunch; these will not be available to guests. Members of the public may obtain refreshments in a carry-out store on the ground floor of the building in which the meeting will be conducted, or may bring refreshments to the meeting from other sources.

FOR FURTHER INFORMATION CONTACT: Kathy Michels, Associate Director, U.S.-China Economic and Security Review Commission, 444 North Capitol Street, NW., Suite 602, Washington, DC 20001; phone 202-624-1409; e-mail kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: October 11, 2006.
Kathleen J. Michels,
Associate Director, U.S.-China Economic and Security Review Commission.

[FR Doc. E6-17306 Filed 10-17-06; 8:45 am]

BILLING CODE 1137-00-P